DEPARTMENT OF TRANSPORTATION

Federal Transit Administration

Notice To Rescind Notice of Intent To Prepare an Environmental Impact Statement for the Proposed Capital Metro Blue Line Project in Austin, Texas

AGENCY: Federal Transit Administration (FTA), DOT.

ACTION: Rescind notice of intent to prepare an environmental impact statement.

SUMMARY: The Federal Transit Administration (FTA), in cooperation with the Capital Metropolitan Transportation Authority (Capital Metro), Austin Transit Partnership (ATP), and the City of Austin (the City), is issuing this notice to advise the public that the Notice of Intent (NOI) to prepare an Environmental Impact Statement (EIS) for the proposed Blue Line light rail transit (LRT) project as part of Project Connect in Austin, Texas is rescinded.

FOR FURTHER INFORMATION CONTACT: For FTA: Mr. Terence Plaskon, Federal Transit Administration, Region VI, 819 Taylor Street, Fort Worth, TX 76102, at (817) 978-0573 or terence.plaskon@dot.gov. For Capital Metro: Mr. Jacob Calhoun, Capital Metro, 2910 E. Fifth Street, Austin, TX 78702, at (512) 369-6501 or jacob.calhoun@capmetro.org.

SUPPLEMENTARY INFORMATION: On May 24, 2021 (86 FR 27942), FTA and Capital Metro issued a NOI to prepare an EIS for the Blue Line LRT project. The project is part of Capital Metro's 2018 Project Connect Long-Term Vision Plan (Project Connect), as amended in 2020. Project Connect presents a regional vision for high-capacity transit investments that would add mobility options for the Central Texas region. The project would have constructed an approximately 8.2-mile LRT line from Republic Square in downtown Austin to Austin-Bergstrom International Airport (AUS).

As planning and preliminary engineering progressed, it became evident that due to higher than projected cost estimates from inflationary pressure, escalating real estate costs, and scope advancement, the approach and phasing for implementation of the LRT system would need to be refined to make the project economically feasible. Therefore, ATP, an independent local government corporation formed by the City and Capital Metro to design, construct, and implement Project Connect, undertook a public planning process to define an economically feasible and expandable LRT system that would meet regional transportation goals and objectives of Project Connect. After a robust community engagement process, on June 6, 2023, a proposed Austin Light Rail Phase 1 project was unanimously approved by Capital Metro, ATP, and the City to advance into the next phase of implementation. This proposed project includes combining segments of the Orange and Blue LRT projects into one LRT project. Based on the foregoing, FTA is rescinding the May 24, 2021, NOI for the Blue Line LRT project.

Comments and questions concerning this notice should be directed to FTA at the address provided above.

Gail Lyssy,
Regional Administrator, FTA Region VI.

[FR Doc. 2023-26026 Filed 11-24-23; 8:45 am]

BILLING CODE 4910-57-P